DEPARTMENT OF COMMERCE

International Trade Administration

[A-533-840]

Certain Frozen Warmwater Shrimp From India: Notice of Correction to Final Results of Antidumping Duty Administrative Review; Final Determination of No Shipments; 2014-2015

AGENCY: Enforcement and Compliance, International Trade Administration, Department of Commerce.

FOR FURTHER INFORMATION CONTACT: Manuel Rey, Enforcement and Compliance, International Trade Administration, U.S. Department of Commerce, 1401 Constitution Avenue NW., Washington, DC 20230; telephone: (202) 482-5518.

SUPPLEMENTARY INFORMATION: On September 13, 2016, the Department of Commerce (the Department) published in the Federal Register the final results of the 2014-2015 administrative review of the antidumping duty order on certain frozen warmwater shrimp from India.¹ The period of review is February 1, 2014, through January 31, 2015. In the Final Results, the Department failed to assign a final cash deposit rate of 2.20 percent to the company “Jagadeesh Marine Exports.” As a result, we now correct the final results of the 2014-2015 administrative review to assign a cash deposit rate of 2.20 percent to this company.

¹ See Certain Frozen Warmwater Shrimp from India: Final Results of Antidumping Duty Administrative Review; Final Determination of No Shipments; 2014-2015, 81 FR 62867 (September 13, 2016) (Final Results).

This correction to the final results of administrative review is issued and published in accordance with sections 751(a)(1) and 777(i)(1) of the Tariff Act of 1930, as amended.

Dated: September 29, 2016.
Paul Piquado,
Assistant Secretary for Enforcement and Compliance.

[FR Doc. 2016-24122 Filed 10-4-16; 8:45 am]

BILLING CODE 3510-DS-P